DEPARTMENT OF TRANSPORTATION

National Highway Traffic Safety Administration

49 CFR Part 571

[Docket No. NHTSA-8446]

TREAD Insurance Study

AGENCY: National Highway Traffic Safety Administration (NHTSA), DOT.

ACTION: Request for comments.

SUMMARY: This notice announces a request for comments to help the agency conduct the study of insurance data mandated by Congress in the Transportation Recall Enhancement, Accountability, and Documentation (TREAD) Act (Pub. L. 106-414) signed November 1, 2000.

DATES: Comments must be received no later than January 5, 2001.

ADDRESSES: Submit written comments to the Docket Management System, U.S. Department of Transportation, PL 401, 400 Seventh Street, SW, Washington, DC 20590-0001. Comments should refer to the Docket Number (NHTSA-8446) and be submitted in two copies. If you wish to receive confirmation of receipt of your written comments, include a self-addressed, stamped postcard.

Comments may also be submitted to the docket electronically by logging onto the Docket Management System website at http://dms.dot.gov. Click on “Help & Information” to obtain instructions for filing the comment electronically. In every case, the comment should refer to the docket number.

The Docket Management System is located on the Plaza level of the Nassif Building at the Department of Transportation at the above address. You can review public dockets there between the hours of 9 a.m. and 5 p.m., Monday through Friday, except Federal holidays. You can also review comments on-line at the DOT Docket Management System web site at http://dms.dot.gov/.

FOR FURTHER INFORMATION CONTACT: Ms. Jane Dion, Office of Plans and Policy, NPP-01, National Highway Traffic Safety Administration, Room 5208, 400 Seventh Street, SW, Washington, DC 20590. Telephone: 202-366-6779. Email: jdion@nhtsa.dot.gov.

SUPPLEMENTARY INFORMATION: Section 3(d) of the Transportation Recall Enhancement, Accountability, and Documentation (TREAD) Act (Pub. L. 106-414) requires NHTSA to conduct a study to determine the feasibility and utility of collecting data from insurance companies on a regular basis to help the agency in its defects investigation efforts. NHTSA is seeking input from the public to assist the agency with the study. Comments received will be evaluated and incorporated, as appropriate, into the study.

How Do I Prepare and Submit Comments?

Your comments must be written and in English. To ensure that your comments are correctly filed in the Docket, please include the Docket number of this document (NHTSA-8446) in your comments.

Please send two paper copies of your comments to Docket Management or submit them electronically. The mailing address is U. S. Department of Transportation Docket Management, Room PL-401, 400 Seventh Street, SW, Washington, DC 20590. If you submit your comments electronically, log onto the Docket Management System website at http://dms.dot.gov and click on “Help & Information” or “Help/Info” to obtain instructions.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Office of Chief Counsel, NCC-30, National Highway Traffic Safety Administration, Room 5219, 400 Seventh Street, SW, Washington, DC 20590. Include a cover letter supplying the information specified in our confidential business information regulation (49 CFR Part 512).

In addition, send two copies from which you have deleted the claimed confidential business information to Docket Management, Room PL-401, 400 Seventh Street, SW, Washington, DC 20590.

Will the Agency Consider Late Comments?

In our response, we will consider all comments that Docket Management receives before the close of business on the comment closing date indicated above under DATES. To the extent possible, we will also consider comments that Docket Management receives after that date.

How Can I Read the Comments Submitted by Other People?

You may read the comments by visiting Docket Management in person at Room PL-401, 400 Seventh Street, SW, Washington, DC from 10:00 a.m. to 5:00 p.m., Monday through Friday.

You may also see the comments on the Internet by taking the following steps:

a. Go to the Docket Management System (DMS) Web page of the Department of Transportation (http://dms.dot.gov).

b. On that page, click on “search.”

c. On the next page ((http://dms.dot.gov/search/) type in the four-digit Docket number shown at the beginning of this document (8446). Click on “search.”

d. On the next page, which contains Docket summary information for the Docket you selected, click on the desired comments. You may also download the comments.

Authority: 49 U.S.C. 30111, 30117, 30168; delegation of authority at 49 CFR 1.50 and 501.8.

Issued on: December 5, 2000.
William H. Walsh,
Associate Administrator for Plans and Policy.

[FR Doc. 00-31446 Filed 12-8-00; 8:45 am]

BILLING CODE 4910-59-P